DEPARTMENT OF COMMERCE

National Institute of Standards and Technology

Proposed Information Collection; Comment Request; NIST Construction Grant Program Application Requirements

AGENCY: National Institute of Standards and Technology (NIST).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 9, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument and instructions should be directed to Barbara Lambis, 301-975-4447, Barbara.lambis@nist.gov.

SUPPLEMENTARY INFORMATION:

I. Abstract

The NIST Construction Grant Program (Program) is a competitive financial assistance (grant) program for research science buildings through the construction of new buildings or expansion of existing buildings. For purposes of this program, “research science building” means a building or facility whose purpose is to conduct scientific research, including laboratories, test facilities, measurement facilities, research computing facilities, and observatories. In addition, “expansion of existing buildings” means that space to conduct scientific research is being expanded from what is currently available for the supported research activities.

This request is for the information collection requirements associated with requesting updated information from the unfunded meritorious 2008 applicants. The information will be used to make final selections of funding recipients.

II. Method of Collection

Letters of Intent are submitted by paper and full proposals are submitted by paper or electronically via http://grants.gov.

III. Data

OMB Control Number: 0693-0055.

Form Number(s): NIST-1101, NIST-1101A, and NIST-1101B.

Type of Review: Regular submission.

Affected Public: U.S. institutions of higher education and non-profit organizations.

Estimated Number of Respondents: 500.

Estimated Time per Response: 500.

Estimated Total Annual Burden Hours: 250,000.

Estimated Total Annual Cost to Public: None.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 2, 2009.
Gwellnar Banks,
Management Analyst, Office of the Chief Information Officer.

[FR Doc. E9-21495 Filed 9-4-09; 8:45 am]

BILLING CODE 3510-13-P